DEPARTMENT OF HEALTH AND HUMAN SERVICES

Office of Inspector General

Program Exclusions: May 2006

AGENCY: Office of Inspector General, HHS.

ACTION: Notice of program exclusions. During the month of May 2006, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name, address | Effective date
PROGRAM-RELATED CONVICTIONS
ABAD, SIMON | 6/20/2006
NATIONAL CITY, CA
ADAMOS, NITA | 6/20/2006
NATIONAL CITY, CA
AFLLEJE, JOAQUIN | 6/20/2006
NATIONAL CITY, CA
ALLEMAN, MONICA | 6/20/2006
DUSON, LA
ARAKELIAN, FARANZIM | 6/20/2006
1DUBLIN, CA
AVILES, DEISY | 6/20/2006
HIALEAH, FL
BAINS, MAHARAJ | 6/20/2006
INDIANAPOLIS, IN
BARRETT, JAMES | 6/20/2006
SPARTANBURG, SC
BELLE, DEBBIE | 6/20/2006
CLEVELAND, OH
BENITEZ, MARIA | 6/20/2006
PHILADELPHIA, PA
BLEDSOE, DERRICK | 6/20/2006
MEMPHIS, TN
BOYD, CYRUS | 6/20/2006
MORGANTOWN, WV
BROUSSARD, MARK | 6/20/2006
BEAUMONT, TX
BUTLER, PAMELA | 6/20/2006
BUNKIE, LA
CAMACHO, MARJORIE | 6/20/2006
BROOKLYN, NY
CAPOTE, JOSE | 6/20/2006
MIAMI, FL
CASTRO, ALFREDO | 9/8/2006
NATIONAL CITY, CA
CASTRO, AMPARO | 6/20/2006
NATIONAL CITY, CA
COQUIA, SERGIO | 6/20/2006
SAN DIEGO, CA
COQUIA, TARCELA | 6/20/2006
SAN DIEGO, CA
CORDERO, PATRIA | 7/8/2006
FOSTER CITY, CA
CRUTCHFIELD, JONATHAN | 6/20/2006
DOUGLAS, GA
CRUZ, HETTY | 6/20/2006
LORAIN, OH
DE LOS SANTOS, LYDIA | 6/20/2006
NATIONAL CITY, CA
DELMONTE, DIGNA | 6/20/2006
SPRING VALLEY, CA
ELLICOTT, RUSSELL | 6/20/2006
AUGUSTA, GA
ELMORE, TONYA | 6/20/2006
HORN LAKE, MS
ESTRELLA, NESTOR | 6/20/2006
NORTH HILLS, CA
EUGENCIO, PRUDENCIO | 6/20/2006
NATIONAL CITY, CA
FLORES, SERAFIN | 6/20/2006
LONG BEACH, CA
FOX, HAROLD | 6/20/2006
MIAMI, FL
GAELENS, DEBRA | 6/20/2006
ROCHESTER, NY
GARTMOND, CINDY | 6/20/2006
ATLANTA, GA
GERMAIN, MICHELLE | 6/20/2006
FREEPORT, NY
GERMAIN, PHILIP | 6/20/2006
FREEPORT, NY
GONZALEZ-PINA, FREDESVINDA | 6/20/2006
HIALEAH, FL
HIDALGO, ALMA | 6/20/2006
ROSWELL, GA
HOWARD, BARBARA | 6/20/2006
LONOKE, AR
HUBBARD, DEBRA | 6/20/2006
PORTLAND, OR
HUSSAIN, ABUL | 6/20/2006
CAMP HILL, PA
JAVIER, ELARDE | 6/20/2006
FOSTER CITY, CA | 7/8/2003
JIMENEZ, HENRY | 6/20/2006
DORAL, FL
JOHNSON, ELIZABETH | 6/20/2006
ALDERSON, WV
JONES, RUBYLENE | 6/20/2006
HOUSTON, TX
JONES, SYLVIA | 6/20/2006
WASHINGTON, DC
LAGMAY, MANUEL | 1/26/2006
MILLERSVILLE, MD
LAVARRO, FRANCIS | 6/20/2006
LOS ANGELES, CA
MACAULAY, REUBEN | 6/20/2006
DALLAS, TX
MARTINEZ, LAZARO | 6/20/2006
MIAMI, FL
MARTINEZ, SYLVIA | 6/20/2006
NATIONAL CITY, CA
MCRAE, ORITA | 6/20/2006
ORLANDO, FL
MIRANDA, VIRGILIO | 6/20/2006
MIAMI, FL
NARRAMORE, JAMES | 6/20/2006
JENKINS, KY
NELSON, CATHERINE | 6/20/2006
MARINA DEL REY, CA
OKON, JOHN | 6/20/2006
OTISVILLE, NY
OKUDA, JUNE | 6/20/2006
SEATTLE, WA
PADRIGO, RAFAEL | 6/20/2006
SAN DIEGO, CA
PARIS, ALIN | 6/20/2006
TROUTDALE, OR
PARIS, MARIA | 6/20/2006
TROUTDALE, OR
POEPKE, RHONDA | 6/20/2006
LUFKIN, TX
PORTER, MELISSA | 6/20/2006
SPARTANBURG, SC
PUQUIZ, RODRIGO | 6/20/2006
NATIONAL CITY, CA
RAMIREZ, RUPERTA | 6/20/2006
SAN DIEGO, CA
ROSS-PEREZ, CHERYL | 6/20/2006
HAMMOND, IN
ROXAS, FELIPE | 6/20/2006
NATIONAL CITY, CA
SIMIZON, TAMMY | 6/20/2006
NEWARK, NY
SIMPSON, PATRICIA | 6/20/2006
OMAK, WA
STANFORD, DARREN | 6/20/2006
ASHLAND, KY
TANEJA, RAJIV | 6/20/2006
YOUNGSTOWN, OH
TRAN, HOANG-TRANG | 6/20/2006
VISALIA, CA
WITT, DON | 6/20/2006
MESA, AZ
WITT, LISE | 6/20/2006
MESA, AZ
FELONY CONVICTION FOR HEALTH CARE FRAUD
ALAS, ANN | 6/20/2006
BRONX, NY
BOWERS, CLARKE | 6/20/2006
VILLANOVA, PA
CLARKE-ROACH, BERNADETTE | 6/20/2006
PORT ST LUCIE, FL
COLUCCI, THOMAS | 6/20/2006
MASSAPEQUA, NY
COOPER, LARHONDA | 6/20/2006
QUINCY, FL
GERSONIA, RAYE | 6/20/2006
CANANDAIGUA, NY
GIBSON, RICHARD | 6/20/2006
SEATTLE, WA
KLUGE, LINDA | 6/20/2006
LAKE GENEVA, WI
MODZELEWSKI, DONAL | 6/20/2006D
DEER PARK, NY
OCHOA, VICTOR | 6/20/2006
GUNNISON, CO
OLEVNIK, JOHN | 6/20/2006
JACKSONVILLE, FL
RAYNE, KEITH | 6/20/2006
SANFORD, FL
REAGAN, MARSHA | 6/20/2006
PURCELL, OK
SCARBERRY, MAUREEN | 6/20/2006
LIVE OAK, CA
SEIBERS, JAMES | 6/20/2006
NASHVILLE, TN
VESTAL, ROBERT | 6/20/2006
JACKSONVILLE, FL
WHITE, LAWRENCE | 6/20/2006
OTISVILLE, NY
FELONY CONTROL SUBSTANCE CONVICTION
BROWDER, CARL | 6/20/2006
DAYTON, TN
BURGER, NANCY | 6/20/2006
LIBERTY HILL, TX
DALL, HOWARD | 6/20/2006
BLUE BELL, PA
GARTSIDE, JENNIFER | 6/20/2006
SAVANNAH, GA
HALL, DEBORAH | 6/20/2006
TULSA, OK
HASSELL, AMY | 6/20/2006
LAPORTE, TX
KEELEN, SUSAN | 6/20/2006
STOCKTON, NJ
KELLY, MAUREEN | 6/20/2006
HOLIDAY, FL
LATOUR, TODD | 6/20/2006
CINCINNATI, OH
MANION, EARL | 6/20/2006
ORANGE PARK, FL
MASTERFIELD, LAURA | 6/20/2006
RIVERSIDE, CA
OBI, OLIVER | 6/20/2006
DULUTH, MN
SINGH, PARAMJIT | 6/20/2006
ST CLAIRSVILLE, OH
SOLIS, ARMANDO | 6/20/2006
MIAMI, FL
PATIENT ABUSE/NEGLECT CONVICTIONS
AUSTIN, DOROTHY | 6/20/2006
LIMA, OH
BERNARDEZ, LEOPOLDO | 6/20/2006
EVERETT, WA
BRINER, BABETTE | 6/20/2006
LAKE WORTH, FL
BROWN, SAM | 6/20/2006
JONESBORO, AR
CALDWELL, SAM | 6/20/2006
FRESNO, CA
COMPO, CATHERINE | 6/20/2006
PORT LEYDEN, NY
COUSE, PEGGY | 6/20/2006
ROCKVILLE, IN
CUNNINGHAM, TIFFANY | 6/20/2006
LUBBOCK, TX
DALEY, SUSAN | 6/20/2006
YARMOUTH, ME
DARLING, AMY | 6/20/2006
UNION GROVE, WI
GENDRICH, JASON | 6/20/2006
WAUKESHA, WI
GRANTHAM, JOSEPH | 6/20/2006
CONWAY, AR
GULLO, LISA | 6/20/2006
WEST SENECA, NY
GURUNYAN, TEREZA | 6/20/2006
LOS ANGELES, CA
HAHN, JAMES | 6/20/2006
OKLAHOMA CITY, OK
HARRIS, SUSAN | 6/20/2006
FORT WORTH, TX
HARTSFIELD, CHRISTY | 6/20/2006
MARIANNA, FL
HAYES, SHERYL | 6/20/2006
FORT ATKINSON, WI
HOWE, ANITA | 6/20/2006
WASHINGTON COURTHOUSE, OH
HUGHES, JERRY | 6/20/2006
MUSKOGEE, OK
HUGHES, RAYMOND | 6/20/2006
AIRWAY HEIGHTS, WA
IBEH, CYRIACUS | 6/20/2006
LAUREL, MD
JOHNSON, EDWARD | 6/20/2006
MOBILE, AL
KAPHERR, JAMES | 6/20/2006
DALTON, GA
KARAMITROS, DENNIS | 6/20/2006
MARION, IA
KERBO, SHERRIE | 6/20/2006
OKLAHOMA CITY, OK
KROEHLER, BRITTANY | 6/20/2006
LE SUEUR, MN
LATA, ROSHNI | 6/20/2006
BAKERSFIELD, CA
LEDFORD, REBECCA | 6/20/2006
GOOD THUNDER, MN
LINDSEY, JAYMI | 6/20/2006
COWETA, OK
NORDINE, GAYLORD | 6/20/2006
W DES MOINES, IA
POOLE, MILTON | 6/20/2006
TEMPLE HILLS, MD
SADANG, FELOIDA | 6/20/2006
EWA BEACH, HI
SIMS, DARNELL | 6/20/2006
CLEVELAND, OH
STONE, NANCY | 6/20/2006
ANNAPOLIS, MD
USSERY, KATHERINE | 6/20/2006
OKLAHOMA CITY, OK
WAIT, BERT | 6/20/2006
SHELTON, WA
WATSON, CASSANDRA | 6/20/2006
ST PETERSBURG, FL
WHEELER, KAMARY | 6/20/2006
TUTTLE, OK
WHELAN, LAUREL | 6/20/2006
FRESNO, CA
WILLIAMS, LATRICE | 6/20/2006
ST PETERSBURG, FL
WITTENAUER, HELEN | 6/20/2006
JEFFERSONVILLE, IN
WOMACK, JOHNNY | 6/20/2006
AMITE, LA
YOUNG, WILLIAM | 6/20/2006
ABERDEEN, WA
CONVICTION FOR HEALTH CARE FRAUD
MCCANTS, ALEATHA | 6/20/2006
HAINES CITY, FL
LICENSE REVOCATION/SUSPENSION/SURRENDERED
ADAIR, JAMES | 6/20/2006
ALTAMONTE SPRINGS, FL
ADAMS, MARY | 6/20/2006
ST PETERSBURG, FL
ADAMS, RICHARD | 6/20/2006
PLATTSBURGH, NY
ADKINS, STEPHANIE | 6/20/2006
VIRGIE, KY
ALGARIN, FIDEL | 6/20/2006
DOTHAN, AL
ALIM, ALBERT | 6/20/2006
BRONX, NY
ALLEN, TERRIA | 6/20/2006
KILGORE, TX
ALVARADO, MICHELLE | 6/20/2006
GLENDALE, AZ
ANASTASIOW, MARY | 6/20/2006
NEW YORK, NY
ARMSTRONG, THOMAS | 6/20/2006
PUEBLO, CO
ASHIKIS, MARTHA | 6/20/2006
VIRGINIA BEACH, VA
BALA, ROBERT-JOSEPH | 6/20/2006
GAINESVILLE, FL
BEAUGRAND, CHRISTINE | 6/20/2006
PALM HARBOR, FL
BEGAY, EARL | 6/20/2006
PHOENIX, AZ
BENJAMIN, MARY | 6/20/2006
PHOENIX, AZ
BHASIN, SUNIL | 6/20/2006
SAN BERNARDINO, CA
BIGGS, LISA | 6/20/2006
CHINO VALLEY, AZ
BLOOM, BILLIE | 6/20/2006
CANYON COUNTRY, CA
BOLDS, DAN | 6/20/2006
PALM CITY, FL
BOSTOCK, ROBERT | 6/20/2006
GILROY, CA
BOYD, SAMUEL | 6/20/2006
NASHVILLE, TN
BRAUN, ROBERT | 6/20/2006
LOS ANGELES, CA
BRAWN, PETER | 6/20/2006
KEY WEST, FL
BRISTOL, FELICIA | 6/20/2006
BROOKSVILLE, FL
BRODERSON, JOE | 6/20/2006
LEXINGTON, KY
BROKOP, KATHLEEN | 6/20/2006
PHOENIX, AZ
BROOKS, MICHAEL | 6/20/2006
PHOENIX, AZ
BROWN, LISA | 6/20/2006
JACKSON, MS
BUDGE, JENNIFER | 6/20/2006
MONTICELLO, UT
BUELL, TYLER | 6/20/2006
LAFAYETTE, LA
BURFORD, JAMI | 6/20/2006
FAYETTEVILLE, NC
BURKE, DAVID | 6/20/2006
NORCROSS, GA
BUTLER, ZELDA | 6/20/2006
WINTER HAVEN, FL
CARROLL, EILEEN | 6/20/2006
ORANGE, CA
CARROLL, JANET | 6/20/2006
JONESBORO, AR
CARTER, WILLIAM | 6/20/2006
PETERSBURG, VA
CLARK, AMANDA | 6/20/2006
MONTICELLO, MS
CLARKE, MARIE | 6/20/2006
LAUDERDALE LAKES, FL
CLEVELAND, CHARLES | 6/20/2006
RIDGELAND, MS
COLE, SONYA | 6/20/2006
DEKALB, MS
COLORADO, NICOLAS | 6/20/2006
TAMPA, FL
COLTON, JANICE | 6/20/2006
PLANTATION, FL
COLVER, MONETTE | 6/20/2006
LOS ANGELES, CA
COLVILLE, JENNIFER | 6/20/2006
SCHENECTADY, NY
COULON, MARILYN | 6/20/2006
SCOTTSDALE, AZ
COWSERT, ANTHONY | 6/20/2006
SOUTH BEND, IN
CRANNEY, TRACY | 6/20/2006
MINDEN, NV
CRAWLEY, CINDY | 6/20/2006
LOUISVILLE, MS
CURTIS, MARLA | 6/20/2006
TEMPLE, TX
DAVIES, GLADYS | 6/20/2006
TALLAHASSEE, FL
DEGREENIA, MELISSA | 6/20/2006
WEST BURKE, VT
DELUCA, PAMELA | 6/20/2006
WARMINSTER, PA
DENT, AMY | 6/20/2006
LITTLEFIELD, TX
DIXON, CHAD | 6/20/2006
CAVE CREEK, AZ
DOMINGUEZ, ANDREWLEY | 6/20/2006
YUMA, AZ
DOVE, DANA | 6/20/2006
VERNON HILLS, IL
DUREN, RUTH | 6/20/2006
PORT ST LUCIE, FL
FEDERROLL, SUSAN | 6/20/2006
CROWNSVILLE, MD
FERMANIS, DEBRA | 6/20/2006
HAMPTON, VA
FORD, PATRICIA | 6/20/2006
BRUSH, CO
FOSS, MARY | 6/20/2006
ST PETERSBURG, FL
FOWLER, REBECKA | 6/20/2006
RENTON, WA
FULLER, ANNE | 6/20/2006
HENDERSON, KY
GARCIA, JOHN | 6/20/2006
OREGON HOUSE, CA
GILLET, DONNA | 6/20/2006
AURORA, CO
GILLIAM, LAURIE | 6/20/2006
CARROLLTON, AL
GRAHAM, LISA | 6/20/2006
DENVER, CO
GRAY, SCOTT | 6/20/2006
GLENDALE, AZ
HALEY, BRIAN | 6/20/2006
MEMPHIS, TN
HANKS, GARY | 6/20/2006
PHOENIX, AZ
HANSEN, BEVERLY | 6/20/2006
OCEAN RIDGE, FL
HARRIS, DEBORAH | 6/20/2006
PHOENIX, AZ
HAWK, CONNIE | 6/20/2006
BENSALEM, PA
HELTON, KELLY | 6/20/2006
BOCA RATON, FL
HERRINGTON, CATHERINE | 6/20/2006
PANAMA CITY, FL
HIGHTOWER, KIMBERLY | 6/20/2006
SUNRISE, FL
HOBBS, SHEILA | 6/20/2006
LOUISBURG, NC
HOLBROOKS, RONETTA | 6/20/2006
ROCKHOUSE, KY
HOLM, MICHAEL | 6/20/2006
NORTH LAS VEGAS, NM
HOPKINS, HOLLY | 6/20/2006
PORTAGE, IN
HUDSON, CHARLES | 6/20/2006
SIGNAL MOUNTAIN, TN
JACKSON, THERESSA | 6/20/2006
SCOTTSVILLE, TX
JAMESON, FRED | 6/20/2006
PHOENIX, AZ
JEAN-LOUIS | 6/20/2006
HOOVER, BRONX, NY
JEWETT, RONALD | 6/20/2006
LAS VEGAS, NV
JOHNSON, SHARON | 6/20/2006
QUITMAN, MS
JONES, ARKISHA | 6/20/2006
LAKELAND, FL
JOYNER, BRADLEY | 6/20/2006
BOWLING GREEN, KY
JURGENSEN, SANDRA | 6/20/2006
PINELLAS PARK, FL
KALANI, WAYNE | 6/20/2006
HENDERSON, NV
KENNEDY, JEFFREY | 6/20/2006
CHATTANOOGA, TN
KING, ISABEL | 6/20/2006
BULLHEAD CITY, AZ
KOENIG, MARK | 6/20/2006
FLORENCE, MS
KOHLER, LISA | 6/20/2006
LAKELAND, FL
KOSICH, MARTIN | 6/20/2006
CATSKILL, NY
KRUGER, CHERYL | 6/20/2006
SALT LAKE CITY, UT
KUBICSEK, KATHY | 6/20/2006
PHOENIX, AZ
KUNERT, RACHEL | 6/20/2006
DENVER, CO
KUSMIERZ, PAULA | 6/20/2006
NORTHRIDGE, CA
LAIGO, LORRAINE | 6/20/2006
PITTSBURG, CA
LANCASTER, SHAWNA | 6/20/2006
SOMERSET, KY
LANE, ALISA | 6/20/2006
MONTICELLO, AR
LARKIN, TINA | 6/20/2006
LONG BEACH, CA
LARSON, SPICIE | 6/20/2006
TUCSON, AZ
LATNER-BROWN, SUSAN | 6/20/2006
MIDDLEBURG, FL
LAWTON, POLLY | 6/20/2006
CORINTH, MS
LAYTON, AMANDA | 6/20/2006
ST PETERSBURG, FL
LOGAN, AMY | 6/20/2006
TULSA, OK
LONDON, HOWARD | 6/20/2006
MIAMI, FL
LONGO, WILLIAM | 6/20/2006
PINESVILLE, LA
LOVE, TINIYA | 6/20/2006
PALMETTO, FL
LOYA, LEANA | 6/20/2006
TUCSON, AZ
LUNDY, WAYNE | 6/20/2006
COLUMBUS, GA
LUNN, JUDY | 6/20/2006
PEORIA, AZ
MAAS, LORI | 6/20/2006
RALEIGH, MS
MADDOX MARTINEZ, SHAUNA | 6/20/2006
GEORGETOWN, TX
MALLORY, CINDY | 6/20/2006
OLMSTEAD, KY
MANKIN, TINA | 6/20/2006
COLUMBUS, IN
MARJERRISON, VALERIE | 6/20/2006
ELLENSBURG, WA
MARSH, MICHAEL | 6/20/2006
PANJACHEL SOLOLA CA, XX
MATHIS, PAMELA | 6/20/2006
TISHOMINGO, MS
MAY, MICKEY | 6/20/2006
PHOENIX, AZ
MCCAFFITY, LAURETTA | 6/20/2006
HAVENLOCK, NC
MCGOWAN, DONNA | 6/20/2006
PROVIDENCE, RI
MCGRAW, JOHN | 6/20/2006
VENICE, FL
MCGUIRE, BRADFORD | 6/20/2006
GULF BREEZE, FL
MCLAUCHLAN, MELISSA | 6/20/2006
OLALLA, WA
MCLAUGHLIN, KERRY | 6/20/2006
WOBURN, MA
MCPHERSON, LEIGH | 6/20/2006
LEXINGTON, KY
MCQUEEN, VIRGINIA | 6/20/2006
JONESBOROUGH, TN
MEDINA, JOEY | 6/20/2006
HENDERSON, NV
MERRELL, STUART | 6/20/2006
SALT LAKE CITY, UT
MESSINA, MADELYN | 6/20/2006
MOBILE, AL
MILLER, GLENN | 6/20/2006
ANTA MONICA, CA
MILLER, LISA | 6/20/2006
CORNWELLS HGHTS, PA
MISHLER, MONTE | 6/20/2006
PENSACOLA, FL
MITCHELL, VINCENT | 6/20/2006
PHOENIX, AZ
MOORE, PAULA | 6/20/2006
MORGANTON, NC
MORGAN, RUSSELL | 6/20/2006
PLAINFIELD, IL
MUGGLI, ROBERT | 6/20/2006
LAKESIDE, AZ
NICHOLAS, BARBARA | 6/20/2006
HOUSTON, TX
NNP, INC, | 6/20/2006
HONOLULU, HI
NOEL, KELVIN | 6/20/2006
LOS ANGELES, CA
NORBERTO, ALBINO | 6/20/2006
JENSEN BEACH, FL
NUWER, APRIL | 6/20/2006
FT MYERS, FL
NYGREN, MARCUS | 6/20/2006
BOCA RATON, FL
O'KEEFE, JOAN | 6/20/2006
ANAHEIM, CA
OSBORNE, PATRICIA | 6/20/2006
NEW BEDFORD, MA
OWENS, NINA | 6/20/2006
CROSSVILLE, TN
PARKER, REBECCA | 6/20/2006
CLAYVILLE, RI
PARTIN, CHARLES | 6/20/2006
PUEBLO, CO
PERCIVAL, ERIN | 6/20/2006
LEHIGH ACRES, FL
PEREL, MICHAEL | 6/20/2006
GOURA HILLS, CA
PERRY, MICHELLE | 6/20/2006
GLENDALE, AZ
PESCIOTTA, BARBARA | 6/20/2006
TOMS RIVER, NJ
PHILLIPS, RACHEL | 6/20/2006
GAFFNEY, SC
PHOLERIC, JOHN | 6/20/2006
HERNDON, VA
PIERANGELINO, KAREN | 6/20/2006
VIRGINIA BEACH, VA
PIERRE, ALETE | 6/20/2006
W PALM BEACH, FL
PLATE, SANDRA | 6/20/2006
PRESCOTT VALLEY, AZ
PLATZEK, BRUCE | 6/20/2006
JENSEN BEACH, FL
PLUMMER, STEPHANIE | 6/20/2006
MIDWEST CITY, OK
PRIOR, SANDRA | 6/20/2006
ST PETERSBURG, FL
PULIZZI, MICHAEL | 6/20/2006
S WILLIAMSPORT, PA
QUEENER, SHARON | 6/20/2006
JACKSBORO, TN
QUESENBERRY, LOWELL | 6/20/2006
WAKEFIELD, VA
QUINN, JOHN | 6/20/2006
GLEN ROCK, NJ
QUINONEZ, ALEXANDER | 6/20/2006
TUCSON, AZ
RAINES, MARION | 6/20/2006
CLEVELAND, MS
RATLIFF, APRIL | 6/20/2006
SEVIERVILLE, TN
RAY, VALINDA | 6/20/2006
RUSSELLTON, PA
RAYMOND, DIXIE | 6/20/2006
OKEECHOBEE, FL
RICH, KELLY | 6/20/2006
AVONDALE, AZ
RICKABAUGH, DONALD | 6/20/2006
NEWPORT BEACH, CA
RIVAS, MARITZA | 6/20/2006
POMONA, CA
RODGERS, MARY | 6/20/2006
CLARKSDALE, MS
ROGERS, DANA | 6/20/2006
BLOOMFIELD, KY
ROSE, TIMOTHY | 6/20/2006
ROANOKE RAPIDS, NC
ROSENTHAL, BERTRAM | 6/20/2006
ENCINO, CA
ROSS, CASEY | 6/20/2006
TACOMA, WA
RUTH, DANIEL | 6/20/2006
OAK ISLAND, NC
RYAN, DONALD | 6/20/2006
STOCKTON, CA
SALAMI, MOHAMMAD | 6/20/2006
HOMESTEAD, FL
SANCHEZ, RICHARD | 6/20/2006
LAKE WORTH, FL
SCHLAUCH, SUZANNE | 6/20/2006
TUCSON, AZ
SCHLITT, MARY | 6/20/2006
VERO BEACH, FL
SCHLUETER, MARY | 6/20/2006
FT COLLINS, CO
SERNEELS, RUTH | 6/20/2006
PINEVILLE, KY
SHADLE, KAREN | 6/20/2006
OAKLAND, CA
SHERRY, KENNETH | 6/20/2006
PRESCOTT VALLEY, AZ
SHETLER, TERRY | 6/20/2006
SARASOTA, FL
SHIELDS, FRANK | 6/20/2006
KIRKLAND, WA
SIMBECK, HEATHER | 6/20/2006
SOUTH BEND, IN
SINNOTT, KAREN | 6/20/2006
POLK CITY, FL
SKINNER, MOLLY | 6/20/2006
FLORENCE, KY
SLATER, DARLENE | 6/20/2006
SURPRISE, AZ
SMITH, CHERYL | 6/20/2006
ROBBINS, NC
SMITH, MARSHALENE | 6/20/2006
PFLUGERVILLE, TX
SNYDER, GEOFFREY | 6/20/2006
LEWISVILLE, OH
SOFIA MASSAGE STUDIO | 6/20/2006
ST PETERSBURG, FL
SOLIMAN, HODA | 6/20/2006
TORRANCE, CA
ST JOHN, MICHELLE | 6/20/2006
TAMPA, FL
STEPHENSON, FLORA | 6/20/2006
HARTSELLE, AL
STERLING, HARLEY | 6/20/2006
ORANGE, CA
SUFFRIDGE, SHERRY | 6/20/2006
ROGERSVILLE, TN
SWAFFORD, JESSE | 6/20/2006
PHOENIX, AZ
TASCHMAN, MARSHALL | 6/20/2006
CORAL SPRINGS, FL
TAYLOR, TIANN | 6/20/2006
CLINTON, NJ
THOMAS, PATRICE | 6/20/2006
CARROLLTOWN, PA
THOMAS, SANDRA | 6/20/2006
KING WILLIAM, VA
TURCHIARO, MICHELLE | 6/20/2006
TAMPA, FL
VALENTIN, VICTOR | 6/20/2006
PERRIS, CA
WAGNER, JILL | 6/20/2006
SCOTTSDALE, AZ
WALDRUP, KELLIE | 6/20/2006
ARDEN, NC
WARREN, LA'SHONDA | 6/20/2006
COLORADO SPRINGS, CO
WEBSTER, AGNES | 6/20/2006
WEST TERRE HAUTE, IN
WEEMS, KAREN | 6/20/2006
TUMWATER, WA
WELCH, BARBARA | 6/20/2006
TEMPE, AZ
WHITING, MICHAL | 6/20/2006
LOVELOCK, NV
WITTORF, MICHAEL | 6/20/2006
MORGANTOWN, PA
WORTHAM, CATHERINE | 6/20/2006
LATONIA, KY
YOUNG, CONNIE | 6/20/2006
LAKE WACCAMAW, NC
ZAKY, WASSIM | 6/20/2006
HUNTINGTON PARK, CA
ZUCKERMAN, ALLAN | 6/20/2006
LOS ANGELES, CA
FRAUD/KICKBACKS/PROHIBITED ACTS/SETTLEMENT AGREEMENTS
HEALTH FORCE ONE | 1/26/2006
WASHINGTON, DC
INTERNATIONAL HEALTH CARE SVCS, INC | 1/26/2006
WASHINGTON, DC
TINNIN, LOUIS | 3/27/2006
BRUCETON MILLS, WV
OWNED/CONTROLLED BY CONVICTED/ENTITIES
ADVANCED MEDICAL SUPPLIERS, INC | 6/20/2006
HAMMOND, IN
CAROLINE STREET CLINIC, INC | 6/20/2006
KEY WEST, FL
COMPREHENSIVE HEALTH PROFESSIONAL REHAB CORP | 6/20/2006
MIAMI, FL
FREDESVINDA M GONZALEZ-PINA, MD, PA | 6/20/2006
HIALEAH, FL
GAMBLE-MCKEE PARTNERSHIP, LLC | 6/20/2006
SHREVEPORT, LA
GUEST CARE MANAGEMENT OF TEXAS LLC | 6/20/2006
SHREVEPORT, LA
MAROUDAS CHIROPRACTIC CLINIC | 6/20/2006
GILROY, CA
MARSHALL G TASCMAN, MD, PA | 6/20/2006
STUART, FL
NATIONAL MEDICAL SYSTEM & SUPPLIES, INC | 6/20/2006
MIAMI, FL
PENNACLE REHAB SERVICES OF FLORIDA, INC | 6/20/2006
MIAMI, FL
STROHBACH CHIROPRACTIC, INC | 6/20/2006
FONTANA, CA
TKO PHARMACY | 6/20/2006
WASILLA, AK
DEFAULT ON HEAL LOAN
ALLEN, DAVID | 6/20/2006
CORTE MADERA, CA
GLICKMAN, HAGIT | 6/20/2006
SAN FRANCISCO, CA
ILIOU, CLAUDE | 6/20/2006
PUNTA GORDA, FL
JONES, JAMES | 6/20/2006
COLLEGEVILLE, PA
KOCHA, PAUL W | 6/20/2006
HOLLYWOOD, CA
MCGHEE, MICHAEL | 6/20/2006
SAN JOSE, CA
MOON, LARRY | 6/20/2006
GILROY, CA
PEOPLES, DOUGLAS | 6/20/2006
PETERSBURG, VA
PRINS, LESLIE | 6/20/2006
ALAMEDA, CA
SLOAN, SCOT | 6/20/2006
ORLANDO, FL
SPAULDING, KARLA | 6/20/2006
SAN FRANCISCO, CA

Dated: June 7, 2006.
Maureen R. Byer,
Director, Exclusions Staff, Office of Inspector General.

[FR Doc. E6-9339 Filed 6-14-06; 8:45 am]

BILLING CODE 4152-01-P